DEPARTMENT OF ENERGY

Federal Energy Regulatory Commission

[Project No. 10455-023]

JDJ Energy Company; Notice of Extension of Deadline for Filing Comments and/or Motions on Notice of Application for Amendment of License

August 14, 2002.

Take notice that the deadline for filing comments, motions to intervene, or protests on the notice of application to amend the license for the River Mountain Pumped Storage Project (P-10455-023), issued August 6, 2002, is extended to October 2, 2002.

Linwood A. Watson, Jr.,
Deputy Secretary.

[FR Doc. 02-21153 Filed 8-19-02; 8:45 am]

BILLING CODE 6717-01-P